DEPARTMENT OF HEALTH AND HUMAN SERVICES

National Institutes of Health

National Institute of Mental Health; Notice of Meeting

Pursuant to section 10(a) of the Federal Advisory Committee Act, as amended (5 U.S.C. App.), notice is hereby given of a conference call of the Interagency Autism Coordinating Committee (IACC).

The IACC Full Committee will have a conference call meeting on Friday, December 13, 2013. The committee will discuss and finalize the 2013 IACC Strategic Plan Update. The conference call will be publicly accessible in listen-only mode.

Name of Committee: Interagency Autism Coordinating Committee (IACC).

Type of meeting: Open—Conference Call.

Date: December 13, 2013.

Time: 12:00 p.m. to 1:30 p.m. *Eastern Time*—Approximate end time.

Agenda: To discuss and finalize the 2013 IACC Strategic Plan Update.

Written Public Comments: Due by 5:00 p.m. ET on Tuesday, December 10, 2013.

Place: Conference call only; No in-person meeting.

Conference Call: Dial: 888-390-8568, Access code: 8162989.

Cost: The conference call is free.

Contact Person: Ms. Lina Perez, Office of Autism Research Coordination, National Institute of Mental Health, NIH, 6001 Executive Boulevard, NSC, Room 6182A, Rockville, MD 20852, Phone: (301) 443-6040, Email: IACCPublicInquiries@mail.nih.gov.

Please Note:

The meeting will be open to the public through a conference call phone number. Members of the public who participate using the conference call phone number will be able to listen to the meeting but will not be heard. If you experience any technical problems with the conference call, please send an email to helpdeskiacc@gmail.com or by phone at 415-652-8023.

Written Public Comments:

Written public comments may be submitted to: Office of Autism Research Coordination, National Institute of Mental Health, NIH, 6001 Executive Boulevard, NSC, Room 6182A, Rockville, MD 20852, Email: IACCPublicInquiries@mail.nih.gov.

By 5:00 p.m. ET on Tuesday, December 10, 2013.

Accommodations Statement:

Individuals who participate by using this conference call service and who need special assistance such as captioning or other reasonable accommodations should submit a request to the Contact Person listed on this notice as soon as possible.

This meeting is being published less than 15 days prior to the meeting due to the need of the committee to discuss and vote on the updates of the 2013 IACC Strategic Plan. Information about the IACC and a registration link for this meeting are available on the Web site: www.iacc.hhs.gov. Schedule subject to change.

Dated: November 29, 2013.
David Clary,
Program Analyst, Office of Federal Advisory Committee Policy.

[FR Doc. 2013-29034 Filed 12-4-13; 8:45 am]

BILLING CODE 4140-01-P